DEPARTMENT OF TRANSPORTATION

National Highway Traffic Safety Administration

[Docket No. NHTSA-2000-6729; Notice 1]

Kolcraft Enterprises, Inc.; Receipt of Application for Decision of Inconsequential Noncompliance

Kolcraft Enterprises of Chicago, Illinois, has determined that 27,624 child restraint systems fail to comply with Federal Motor Vehicle Safety Standard (FMVSS) No. 213, “Child Restraint Systems,” and has filed an appropriate report pursuant to 49 CFR Part 573, “Defects and Noncompliance Reports.” Kolcraft has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgement concerning the merits of the petition.

FMVSS No. 213, S5.5.2(j) requires each child restraint system equipped with an anchorage strap to include the following statement on a permanent label:

Secure the top anchorage strap provided with this child restraint as specified in the manufacturer's instructions.

Kolcraft has determined that certain child restraints it manufactured have been shipped without the label required by S5.5.2(j). The child restraints containing the noncompliance are Performa and Automate model convertible child restraints equipped with tether straps that were both manufactured and shipped before November 19, 1999. Kolcraft has shipped 27,484 Performas and 140 Automates with tether straps and without the statement required by the standard. When Kolcraft discovered the noncompliance, it stopped shipment until the restraints in inventory could be labeled with the required statement. Thus, some restraints that were manufactured before November 19, 1999 are in compliance because they were labeled before shipment at the plant.

Kolcraft supports its application for inconsequential noncompliance with the following:

Kolcraft inadvertently overlooked this provision when it was redesigning its restraints to include anchorage straps, because Kolcraft relied on the changes made in the March 5, 1999 final rule regarding tether anchorage straps to identify the changed performance requirements. Since S5.5.2(j) was already in the standard, and not changed by the March 5, 1999 final rule, the labeling requirement was overlooked by Kolcraft until a routine compliance verification test identified the missing language.

Kolcraft did, however, permanently label the tether anchorage strap itself on all of the affected restraints with language warning of the safety risk of improper installation. The label reads: “Failure to properly adjust and secure tether to correctly installed tether anchor can result in serious injury or death. Only use with a vehicle tether anchor installed by dealer or factory.” And, the instruction manual of each affected restraint includes full instructions for proper tether attachment.

Kolcraft believes that the noncompliance here should be found to be inconsequential because the safety goal of the labeling requirement has been satisfied by the language on the tether strap itself. Any person attempting to attach a tether strap to an anchorage will see the language emphasizing the need for proper installation, because the language is permanently labeled on the strap itself.

Kolcraft does not question the value of notifying consumers to check the instruction manual. Under these circumstances, however, where the substance of the notification requirement is achieved, located on a place on the product where it is likely to be seen by the consumer, the noncompliance does not present a consequential risk to motor vehicle safety. Kolcraft respectfully requests that NHTSA grant its petition for exemption.

Interested persons are invited to submit written data, views, and arguments on the application of Kolcraft described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below.

Comment closing date: March 2, 2000.

(49 U.S.C. 30118 and 30120; delegations of authority at 49 CFR 1.50 and 501.8)

Issued on: January 27, 2000.
Stephen R. Kratzke,
Acting Associate Administrator for Safety Performance Standards.

[FR Doc. 00-2129 Filed 1-31-00; 8:45 am]

BILLING CODE 4910-59-P